DEPARTMENT OF VETERANS AFFAIRS

Creating Options for Veterans Expedited Recovery (COVER) Commission; Notice of Meeting

In accordance with the Federal Advisory Committee Act, the Creating Options for Veterans Expedited Recover (COVER) Commission gives notice that the first meeting will be held on July 24 and July 25, 2018 at the Capital Hilton, 1001 16th Street NW, Washington, DC. The meeting will convene at 8:00 a.m. and adjourn at 5:00 p.m. EST on July 24 and July 25. The meeting will be partially closed to the public on July 24, 2018 and July 25, 2018. In accordance with 5 U.S.C. 552b(c)(2) and (6), which exempt a meeting from the requirement to be open to the public, the meeting will be closed on July 24 from 8:00 a.m. to 12:00 p.m. because it is likely to “relate solely to the internal personnel rules and practices of an agency” or “disclose . . . information of a personal nature where disclosure would constitute a clearly unwarranted invasion of personal privacy.” On July 25, the meeting will be closed from 12:00 p.m. to 5:00 p.m. under section 552b(c)(9)(B) because it would reveal information the disclosure of which would, “in the case of an agency, be likely to significantly frustrate implementation of a proposed agency action.” This closed session will include discussion of ground rules, decision making protocol, and strategy to establish ground rules. Any precipitous release of those discussions through an open session will frustrate program implementation, to the detriment of our Veterans who we consider our greatest customer/benefactor of the commission.

Open sessions will be held on both days in Capital Hilton's South American AB room. The open session on Day 1 will focus current VHA Whole Health Practices, VA's Mental Health Services and Resources. The open session Day 2 will include review and discussion of the objectives of the Commission as described in the Comprehensive Addiction and Recovery Act (CARA) of 2016. A listening line will be available to the public who prefer to call in rather than attend the open sessions at the Capital Hilton. This listening line number will be activated 10 minutes before each of the two open sessions. The listening line number is 800-767-1750; access code 48664#.

The purpose of the COVER Commission is to examine the evidence-based therapy treatment model used by the Department of Veterans Affairs (VA) for treating mental health conditions of Veterans and the potential benefits of incorporating complementary and integrative health approaches as standard practice throughout the Department. The Commission will: (1) Examine the efficacy of the evidence-based therapy model used by VA to treat mental health illnesses and identify areas of improvement; (2) conduct a patient-centered survey within each VISN to examine: The experiences of veterans with VA facilities regarding mental health care, the experiences of veterans with non-VA facilities regarding mental health care, the preferences of veterans regarding available treatment for mental health issues and which methods the veterans believe to be most effective, the experience, if any, of veterans with respect to complementary and integrative health approaches, the prevalence of prescribing medication to veterans seeking treatment for mental health disorders through VA, and the outreach efforts of VA regarding the availability of benefits and treatments for veterans for addressing mental health issues; (3) examine available research on complementary and integrative health approaches for mental health disorders in areas of therapy including: Music therapy, equine therapy, training and caring for service dogs, yoga therapy, acupuncture therapy, meditation therapy, outdoor sports therapy, hyperbaric oxygen therapy, accelerated resolution therapy, art therapy, magnetic resonance therapy, and others; (4) study the sufficiency of VA resources to deliver quality mental health care; and (5) study the current treatments and resources available within VA and assess: The effectiveness of such treatments and resources in decreasing the number of suicides per day by veterans, the number of veterans who have been diagnosed with mental health issues, the percentage of veterans who have completed VA counseling sessions, and the efforts of VA to expand complementary and integrative health treatments viable to the recovery of veterans with mental health issues as determined by the Secretary to improve the effectiveness of treatments offered by VA.

Any member of the public seeking additional information should email COVER Commission@va.gov. The Designated Federal Officer for the Commission is Ms. Sheila B. Hickman. Ms. Hickman and the staff will be monitoring and responding to questions or comments sent to this email box. The Committee will also accept written comments which may be sent to the same email box. In the public's communications with the Committee, the writers must identify themselves and state the organizations, associations, or persons they represent.

Dated: July 9, 2018.
Jelessa M. Burney,
Federal Advisory Committee Management Officer.

[FR Doc. 2018-14936 Filed 7-11-18; 8:45 am]

BILLING CODE P